Proclamation 9562 of December 28, 2016

National Stalking Awareness Month, 2017

By the President of the United States of America

A Proclamation

Every year, stalkers deny too many people the comfort and safety they deserve, violating our basic expectation of dignity and respect for all. Posing risks to both the physical and emotional health of victims, stalking is recognized as a crime across our Nation. This month, we join together in support of victims to raise awareness of this threat and reaffirm the importance of ensuring every person can live free from fear of violence, harassment, and any form of stalking.

Approximately 1 in 6 women and 1 in 19 men will be victims of stalking. Perpetrators of stalking seek power and control by following, harassing, or pursuing victims in unwanted or repeated ways. Stalking can occur digitally—through cell phones and on social media platforms—as well as in person through repeated threats or acts of physical violence. And whether committed by acquaintances, former partners, or strangers, stalking can cause anxiety, depression, and feelings of helplessness, as well as a wide variety of general health and sleeping problems. Stalking victims live with the fear of not knowing what will happen next, and many are often forced to change their daily activities, move to a different location, or take time off from school or work.

Along with combating domestic violence, dating violence, and sexual assault, confronting stalking and supporting victims is an important part of my Administration's efforts to end violence against women. And to ensure that violence against women, including stalking, is never tolerated, Vice President Biden has also led efforts to help change this culture. In 2013, I signed the reauthorization of the Violence Against Women Act, which identifies stalking as a key focus area in which we can improve support for victims. Because of an Executive Order I signed in 2015, victims employed by Federal contractors can now use paid sick leave for absences related to stalking, and in the past year, many Federal agencies have also increased their support for victims as part of ongoing work to address the effects of domestic violence in the workplace. The Department of Housing and Urban Development recently finalized a new rule that strengthens housing protections for stalking victims, helping to secure their basic right to a safe living environment. And through a new Government-wide training tool designed to educate Federal employees on how to recognize and respond to stalking—and how to support colleagues who may be victims—we have worked to enhance policies that support affected employees.

Nobody should ever feel unsafe in their homes and communities, which is why we must work to lift up victims and survivors who know the distress and anxiety of being stalked. Throughout National Stalking Awareness Month, let us reaffirm the value of privacy and security for all as we continue striving to ensure offenders are held accountable. If we pursue such progress and change with the passion and empathy that victims of stalking deserve, we can build a future where all people are free to live out their dreams.

NOW, THEREFORE, I, BARACK OBAMA, President of the United States of America, by virtue of the authority vested in me by the Constitution and the laws of the United States, do hereby proclaim January 2017 as National Stalking Awareness Month. I call upon all Americans to learn the signs of stalking, acknowledge stalking as a serious crime, and urge those affected not to be afraid to speak out or ask for help. Let us also resolve to support victims and survivors, and to create communities that are secure and supportive for all Americans.

IN WITNESS WHEREOF, I have hereunto set my hand this twenty-eighth day of December, in the year of our Lord two thousand sixteen, and of the Independence of the United States of America the two hundred and forty-first.

[FR Doc. 2017-00042

Filed 1-4-17; 8:45 am]

Billing code 3295-F7-P